DEPARTMENT OF JUSTICE

Notice of Lodging Proposed Consent Decree

In accordance with Departmental Policy, 28 CFR 50.7, notice is hereby given that a proposed Consent Decree in United States of America v. Northwoods Development, LLC d/b/a Portage Point Inn, Michael DeVoe, 1:03-CV-336, was lodged with the United States District Court for the Western District of Michigan, Southern Division on November 4, 2003.

This proposed Consent Decree concerns a complaint filed by the United States against Northwoods Development, LLC, d/b/a Portage Point Inn, and Michael DeVoe, pursuant to Section 301(a) of the Clean Water Act, 33 U.S.C. 1311(a) and Section 10 of the Rivers and Harbors Act of 1899, 33 U.S.C. 403 to obtain injunctive relief and impose civil penalties against the Defendants for violating the Clean Water Act by discharging pollutants without a permit into waters of the United States. The proposed Consent Decree resolves these allegations by requiring the Defendants to restore the impacted areas and to pay a civil penalty.

The Department of Justice will accept written comments relating to this proposed Consent Decree for thirty (30) days from the date of publication of this notice. Please address comments to Thomas J. Gezon, Assistant United States Attorney, Western District of Michigan, P.O. Box 208, Grand Rapids, MI 49501-0208, (616) 456-2408, and refer to United States v. Northwoods Development, LLC, Court No. 1:03-CV-336, (Internal Case Number 2002V00286).

The proposed Consent Decree may be examined at the Clerk's Office, United States District Court for the Western District of Michigan, B35 Federal Building, 410 W. Michigan Avenue, Kalamazoo, MI 49007. In addition, the proposed consent decree may be viewed at http://www.usdoj.gov/enrd/open.html.

Thomas J. Gezon,
Assistant United States Attorney, Western District of Michigan.

[FR Doc. 03-29754 Filed 11-28-03; 8:45 am]

BILLING CODE 4410-15-M